DEPARTMENT OF HEALTH AND HUMAN SERVICES

Substance Abuse and Mental Health Services Administration

National Advisory Council; Notice of Meeting

Pursuant to Public Law 92-463, notice is hereby given of a meeting of the Substance Abuse and Mental Health Services Administration's (SAMHSA) National Advisory Council (NAC) on August 16, 2013.

The meeting will include discussions of the Future of SAMHSA, Wellness and Prescription Drug Abuse Issues.

The meeting is open to the public and will be held at the SAMHSA building, 1 Choke Cherry Road, Rockville, MD 20857 in the Sugarloaf Conference Room. Attendance by the public will be limited to space available. Interested persons may present data, information, or views, orally or in writing, on issues pending before the committee. Written submissions should be forwarded to the contact person on or before one week prior to the meeting. Oral presentations from the public will be scheduled at the conclusion of the meeting. Individuals interested in making oral presentations are encouraged to notify the contact on or before one week prior to the meeting. Five minutes will be allotted for each presentation.

The meeting may be accessed via teleconference. The meeting will be available via teleconference at 888-677-8206, Participant passcode: 9635740. To attend on site, obtain the call-in number and access code, submit written or brief oral comments, or request special accommodations for persons with disabilities, please register on-line at http://nac.samhsa.gov/Registration/meetingsRegistration.aspx, or communicate with SAMHSA's Acting Designated Federal Officer, Mr. Matthew Aumen (see contact information below).

Substantive meeting information and a roster of Committee members may be obtained either by accessing the SAMHSA Committees' Web site at https://nac.samhsa.gov/WomenServices/index.aspx, or by contacting Mr. Aumen. The transcript for the meeting will be available on the SAMHSA Committees' Web site within three weeks after the meeting.

Committee Name: SAMHSA's National Advisory Council.

Date/Time/Type: Friday, August 16, 2013 from 9 a.m. to 2:30 EDT: Open.

Place: SAMHSA, 1 Choke Cherry Road, SAMHSA Sugarloaf Conference Room, Rockville, Maryland 20857.

Contact: Matthew Aumen, Acting Designated Federal Officer of the SAMHSA National Advisory Council, 1 Choke Cherry Road, Rockville, Maryland 20857, Telephone: (240) 276-2419, Fax: (240) 276-2430 and Email: matthew.aumen@samhsa.hhs.gov.

Cathy J. Friedman,
Public Health Analyst, SAMHSA.

[FR Doc. 2013-18102 Filed 7-26-13; 8:45 am]

BILLING CODE 4162-20-P